DEPARTMENT OF EDUCATION

[Docket No.: ED-2014-ICCD-0062]

Agency Information Collection Activities; Comment Request; National Evaluation of the Technical Assistance and Dissemination (TA&D) Program: Grantee Questionnaire/Interview and State Survey Data Collection

AGENCY: Institute of Education Sciences/National Center for Education Statistics (IES), Department of Education (ED).

ACTION: Notice.

SUMMARY: In accordance with the Paperwork Reduction Act of 1995 (44 U.S.C. chapter 3501 et seq.), ED is proposing a new information collection.

DATES: Interested persons are invited to submit comments on or before June 23, 2014.

ADDRESSES: Comments submitted in response to this notice should be submitted electronically through the Federal eRulemaking Portal at http://www.regulations.gov by selecting Docket ID number ED-2014-ICCD-0062 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E105, Washington, DC 20202.

FOR FURTHER INFORMATION CONTACT: For specific questions related to collection activities, please contact Jonathan Jacobson, 202-208-3876.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Evaluation of the Technical Assistance and Dissemination (TA&D) Program: Grantee Questionnaire/Interview and State Survey Data Collection.

OMB Control Number: 1850-NEW.

Type of Review: A new information collection.

Respondents/Affected Public: State, Local, or Tribal Governments.

Total Estimated Number of Annual Responses: 3,702.

Total Estimated Number of Annual Burden Hours: 927.

Abstract: This data collection is Phase II of the National Evaluation of the TA&D Program and will focus on gathering relevant information on the State Deaf-Blind Projects funded under the OSEP Technical Assistance and Dissemination (TA&D) Program. Data will be obtained through three questionnaires. A State Deaf-Blind Project Questionnaire will be administered to all Project Directors and will yield detailed descriptive information about the technical assistance products and services provided by the TA&D Program grantees and to whom they provide them. A questionnaire administered to providers who are identified as those who work at least on a weekly basis with students aged 6-21 with deaf blindness will provide information concerning characteristics of these providers and their needs for technical assistance to support their work with students. A subset of these providers who have received child-specific technical assistance from a state deaf-blind project will receive a short set of additional questions about their experiences with the TA received, and their satisfaction with that support.

This data collection will provide unique, detailed data and information that are not currently available from other sources but that are necessary in order to accurately understand the role that the State Deaf-Blind Projects play in supporting local providers in their work with children and youth with deaf blindness. The National Evaluation of the TA&D Program is part of the National Assessment of the Individuals with Disabilities Education Improvement Act of 2004 (hereafter referred to as the National Assessment). Failure to collect these data may result in the ED being unable to adequately report to Congress on the National Assessment.

Dated: April 17, 2014.
Stephanie Valentine,
Acting Director, Information Collection Clearance Division, Privacy, Information and Records Management Services, Office of Management.

[FR Doc. 2014-09099 Filed 4-21-14; 8:45 am]

BILLING CODE 4000-01-P